DEPARTMENT OF HEALTH AND HUMAN SERVICES

Centers for Disease Control and Prevention

[30Day-18-17SG]

Agency Forms Undergoing Paperwork Reduction Act Review

In accordance with the Paperwork Reduction Act of 1995, the Centers for Disease Control and Prevention (CDC) has submitted the information collection request titled “Information on Law Enforcement Officers” to the Office of Management and Budget (OMB) for review and approval. CDC previously published a “Proposed Data Collection Submitted for Public Comment and Recommendations” notice on March 16, 2017 to obtain comments from the public and affected agencies. CDC did not receive comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agency's estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570 or send an email to omb@cdc.gov. Direct written comments and/or suggestions regarding the items contained in this notice to the Attention: CDC Desk Officer, Office of Management and Budget, Washington, DC 20503 or by fax to (202) 395-5806. Provide written comments within 30 days of notice publication.

Proposed Project

Anthropometric Information on Law Enforcement Officers—New—National Institute for Occupational Safety and Health (NIOSH), Centers for Disease Control and Prevention (CDC).

Background and Brief Description

The mission of the National Institute for Occupational Safety and Health (NIOSH) is to promote safety and health at work for all people through research and prevention. The Occupational Safety and Health Act of 1970, Public Law 9-596 (Section 20) [a][1] authorizes NIOSH to conduct research to advance the health and safety of workers.

In 1975, the National Bureau of Standards (NBS) released its manually measured anthropometric data of law enforcement officers (LEOs). The data have largely become outdated due to demographic changes in the LEO workforce (e.g., gender and race/ethnicity) that have occurred in the past 43 years. NIOSH has initiated a national study on LEO anthropometry, using both traditional and three-dimensional (3D) scanning technologies to advance the safety and health of approximately 817,000 U.S. LEOs. Collecting traditional anthropometry will ensure easy comparison of data between this and previous studies, while 3D scan information (body contours and spatial relations between body parts) will be used for advanced anthropometric analysis, computer simulation, and human body modeling. Study results will be used to enhance design and standards for LEO vehicle configuration and personal protective equipment (PPE), such as cabins, seats, body restraints, vehicle accesses, and body armors.

The improved vehicle configurations will help enhance safe operation (due to improved driver visibility and control operation) and increase post-crash survivability (due to enhanced seats and restraint system configurations). Body armor, helmet, gloves, and boots are important elements of an integrated LEO personal protective system, especially for handling violent acts. Poor equipment fit may compromise the protective capabilities of PPE and may result in LEOs not wearing the PPE because of discomfort.

By establishing an anthropometric database for LEOs, the designers and manufacturers of these types of equipment will be able to produce products that are more effective and reduce the problems associated with sizing and stocking these items. Data collection will occur in 4 U.S. geographic areas using traditional anthropometric techniques for whole body measurements, 3D scanning techniques for head, foot, and whole body measurements, and a 2D scanning technique for hand measurements. An anthropometer, a beam caliper (rearranged pieces of the anthropometer), tape measures, and an electronic scale will be used to collect the traditional anthropometry data in the study. A hand scanner, head scanner, foot scanner, and whole body scanner, housed in a mobile trailer, are used for 2D and 3D body shape measurements.

The study population will be current law enforcement officers employed by police departments, sheriff's departments, or similar governmental organizations throughout the continental United States. One thousand five LEO volunteers will participate in the study over three years, with a study goal of obtaining complete anthropometric assessment of 1,000 LEOs. Information collection for each respondent is expected to take no longer than 63 minutes (total) to complete. Participation is voluntary and there are no costs to the respondents other than their time. The total estimated annualized burden hours are 353.

Estimated Annualized Burden Hours
Type of respondents | Form name | Number of respondents | Number of responses per respondent | Average burden per response (in hours)
Law Enforcement Officers | Biographical Information | 335 | 1 | 3/60
Law Enforcement Officers | Data Sheet | 335 | 1 | 25/60
Law Enforcement Officers | Assessment of Challenges in Vehicle and with Body Armor | 335 | 1 | 5/60
Law Enforcement Officers | Two-dimensional Hand Scan and Three-dimensional Body Scans | 335 | 1 | 30/60

Leroy Richardson,
Chief, Information Collection Review Office, Office of Scientific Integrity, Office of the Associate Director for Science, Office of the Director, Centers for Disease Control and Prevention.

[FR Doc. 2018-05911 Filed 3-22-18; 8:45 am]

BILLING CODE 4163-18-P